DEPARTMENT OF JUSTICE

Drug Enforcement Administration

Manufacturer of Controlled Substances; Notice of Application

Pursuant to § 1301.33(a) of Title 21 of the Code of Federal Regulations (CFR), this is notice that on December 12, 2006, Orasure Technologies, Inc., Lehigh University, Seeley G Mudd-Building 6, 220 East First Street, Bethlehem, Pennsylvania 18015, made application by renewal to the Drug Enforcement Administration (DEA) as a bulk manufacturer of the basic classes of controlled substances listed in schedule I and II:

Drug | Schedule
Lysergic acid diethylamide (LSD) (7315) | I
4-Methoxyamphetamine (7411) | I
Normorphine (9313) | I
Tetrahydrocannabinols (THC) (7370) | I
Alphamethadol (9605) | I
Amphetamine (1100) | II
Methamphetamine (1105) | II
Cocaine (9041) | II
Hydromorphone (9150) | II
Benzoylecgonine (9180) | II
Hydrocodone (9193) | II
Morphine (9300) | II
Oxycodone (9143) | II
Meperidine (9230) | II
Methadone (9250) | II
Oxymorphone (9652) | II

The company plans to manufacture the listed controlled substances in bulk to manufacture controlled substance derivatives. These derivatives will be used in diagnostic products created specifically for internal use only.

Any other such applicant and any person who is presently registered with DEA to manufacture such a substance may file comments or objections to the issuance of the proposed registration pursuant to 21 CFR 1301.33(a).

Any such written comments or objections being sent via regular mail should be addressed, in quintuplicate, to the Deputy Assistant Administrator, Office of Diversion Control, Drug Enforcement Administration, Washington, DC 20537, Attention: DEA Federal Register Representative/ODL; or any being sent via express mail should be sent to DEA Headquarters, Attention: DEA Federal Register Representative/ODL, 2401 Jefferson-Davis Highway, Alexandria, Virginia 22301; and must be filed no later than April 13, 2007.

Dated: February 5, 2007.
Joseph T. Rannazzisi,
Deputy Assistant Administrator, Office of Diversion Control, Drug Enforcement Administration.

[FR Doc. E7-2320 Filed 2-9-07; 8:45 am]

BILLING CODE 4410-09-P